Proclamation 10814 of September 19, 2024

National POW/MIA Recognition Day, 2024

By the President of the United States of America

A Proclamation

Throughout history, America's service members have risked everything to keep the light of liberty shining bright. Today, more than 81,000 of these brave men and women remain missing and unaccounted for around the world. They will never be forgotten, and their courage, service, and sacrifice will always be cherished by our grateful Nation. On National POW/MIA Recognition Day, we honor all those missing and unaccounted for. We recommit to bringing them home, no matter how long it takes. And we express our ironclad support for their families.

The POW/MIA flag is displayed in its rightful place above the White House—the People's House. The flag serves as a reminder to all Americans that we are the fortunate heirs of the legacy that they—our Nation's unreturned heroes—helped to forge. These service members gave all, risked all, and dared all to protect our freedom. Just as they kept faith in our Nation, we must keep faith with them. My Administration will never forget our obligation to these patriots and their families. We owe them a debt of gratitude we can never fully repay.

For those with family members who are missing and unaccounted for, I know that the not knowing weighs on your hearts, amid the grieving, remembering, and cherishing of your loved ones. My Administration sees you, stands with you, and will never forget our sacred obligation to care for you.

During National POW/MIA Recognition Day, we recognize the absolute bravery of our Nation's service members who are missing and unaccounted for, and we recommit to bringing them home. We offer our gratitude and steadfast support for their families, who have given so much to our Nation. We also honor the service and sacrifice of former prisoners of war. And we remember that the truest testimonial to their sacrifice is doing our part to ensure that our democracy and the soul of our Nation endure.

NOW, THEREFORE, I, JOSEPH R. BIDEN JR., President of the United States of America, by virtue of the authority vested in me by the Constitution and laws of the United States, do hereby proclaim September 20, 2024, as National POW/MIA Recognition Day. Let all who read this know that America remains grateful to our heroes held in the worst imaginable conditions as prisoners of war. Additionally, I encourage my fellow citizens across the Nation to reflect on today and let us not forget those heroes who never returned home from the battlefields around the world or their families who are still waiting for answers. I call upon Federal, State, and local government officials and private organizations to observe this day with appropriate ceremonies and activities.

IN WITNESS WHEREOF, I have hereunto set my hand this nineteenth day of September, in the year of our Lord two thousand twenty-four, and of the Independence of the United States of America the two hundred and forty-ninth.

[FR Doc. 2024-21974

Filed 9-23-24; 8:45 am]

Billing code 3395-F4-P